DEPARTMENT OF COMMERCE

Economics and Statistics Administration

Census Advisory Committees

AGENCY: Economics and Statistics Administration, Department of Commerce.

ACTION: Notice of Public Meeting.

SUMMARY: Pursuant to the Federal Advisory Committee Act (Public Law 92-463, as amended by Pub. L. 94-409, Pub. L. 96-523, and Pub. L. 97-375), we are giving notice of the following Census Advisory Committee (CAC) meetings:

• The CACs on the African American Population, the American Indian and Alaska Native Populations, the Asian Population, the Native Hawaiian and Other Pacific Islander Populations, and the Hispanic Population to be held on March 14, 2001.

• The Joint CAC meeting of the CACs on Race and Ethnic Populations, the CAC of Professional Associations, and the Decennial CAC to be held on March 15, 2001.

• The Decennial CAC meeting to be held on March 16, 2001.

The Joint Advisory Committee Meeting on March 15 will discuss the Census Bureau's Executive Steering Committee on the Accuracy and Coverage Evaluation Policy's recommendation on whether or not to release statistically adjusted Pub. L. 94-171 data products for redistricting. The meetings on March 14 and 16 will discuss selected Census 2000 evaluations and provide opportunities for the Committees to hold working groups on decennial planning issues. We are still finalizing the other details of the meetings' agendas.

DATES: On Wednesday, March 14, 2001, the meeting will begin at 11:30 a.m. and adjourn at 5 p.m. On Thursday, March 15, 2001, the meeting will begin at 8:45 a.m. and adjourn at 5:15 p.m. On Friday, March 16, 2001, the meeting will begin at 8:30 a.m. and adjourn at 1:30 p.m.

ADDRESSES: The meetings will be held at the Doubletree Hotel, 300 Army Navy Drive, Arlington, VA.

FOR FURTHER INFORMATION CONTACT: Jeri Green, Committee Liaison Officer, Department of Commerce, U.S. Census Bureau, Room 3631, Federal Building 3, Washington, DC 20233, telephone: (301) 457-2070.

SUPPLEMENTARY INFORMATION: The CACs on the African American Population, American Indian and Alaska Native Populations, the Asian Population, the Native Hawaiian and Other Pacific Islander Populations, and the Hispanic Population are composed of nine members each, appointed by the Secretary of Commerce. The Committees advise the Director, U.S. Census Bureau, and provide an organized and continuing channel of communication between the communities they represent and the Census Bureau on issues concerning race and ethnicity and on issues related to the 2010 Decennial Census, the American Community Survey (ACS), and related programs.

The CAC of Professional Associations is composed of 36 members, appointed by the Presidents of the American Economic Association, the American Statistical Association, the Population Association of America, and the Chairman of the Board of the American Marketing Association. The Committee advises the Director, U.S. Census Bureau, on the full range of Census Bureau programs and activities in relation to the areas of expertise.

The Decennial Census Advisory Committee is composed of a Chair, Vice Chair, and up to 40 member organizations, each appointed by the Secretary of Commerce. The Committee considers the goals of the decennial census and users' needs for information provided by that census. The Committee advises the Secretary of Commerce on policy, research, technological-related issues for the design of the 2010 decennial census, the ACS, and other related programs.

A brief period will be set aside for public comment. However, individuals with extensive statements for the record must submit them in writing to the Commerce Department official named above at least three working days prior to the meeting.

The meetings are physically accessible to people with disabilities. Requests for sign language interpretation or other auxiliary aids should be directed to the Census Bureau Committee Liason Officer on (301) 457-2070, TDD (301) 457-2540.

Dated: February 14, 2000.
James Lee Price,
Acting Under Secretary for Economic Affairs, Economics and Statistics Administration.

[FR Doc. 01-4358 Filed 2-21-01; 8:45 am]

BILLING CODE 3510-07-M